DEPARTMENT OF COMMERCE

National Oceanic and Atmospheric Administration

50 CFR Part 648

[Docket No. 031104274-4011-02; I.D. 091404I]

Fisheries of the Northeastern United States; Atlantic Mackerel, Squid, and Butterfish Fisheries; Closure of the Directed Fishery for Illex Squid

AGENCY: National Marine Fisheries Service (NMFS), National Oceanic and Atmospheric Administration (NOAA), Commerce.

ACTION: Closure.

SUMMARY: NMFS announces that the directed fishery for Illex squid in the Exclusive Economic Zone (EEZ) will be closed effective 0001 hours, September 21, 2004. Vessels issued a Federal permit to harvest Illex squid may not retain or land more than 10,000 lb (4.54 mt) of Illex squid per trip for the remainder of the year (through December 31, 2004). This action is necessary to prevent the fishery from exceeding its yearly quota and allow for effective management of this stock.

DATES: Effective 0001 hours, September 21, 2004, through 2400 hours, December 31, 2004.

FOR FURTHER INFORMATION CONTACT: Don Frei, Fishery Management Specialist, 978-281-9221, fax 978-281-9135, e-mail don.frei@noaa.gov.

SUPPLEMENTARY INFORMATION: Regulations governing the Illex squid fishery are found at 50 CFR part 648. The regulations require specifications for maximum sustainable yield, initial optimum yield, allowable biological catch, domestic annual harvest (DAH), domestic annual processing, joint venture processing and total allowable levels of foreign fishing for the species managed under the Atlantic Mackerel, Squid, and Butterfish Fishery Management Plan. The procedures for setting the annual initial specifications are described in § 648.21.

The 2004 specification of DAH for Illex squid was set at 24,000 mt (69 FR 4861, February 2, 2004). Section 648.22 requires NMFS to close the directed Illex squid fishery in the EEZ when 95 percent of the total annual DAH is projected to be harvested. NMFS is further required to notify, in advance of the closure, the Executive Directors of the Mid-Atlantic, New England, and South Atlantic Fishery Management Councils; mail notification of the closure to all holders of Illex squid permits at least 72 hours before the effective date of the closure; provide adequate notice of the closure to recreational participants in the fishery; and publish notification of the closure in the Federal Register. The Administrator, Northeast Region, NMFS, based on dealer reports and other available information, has determined that 95 percent of the total DAH for Illex squid has been harvested. Therefore, effective 0001 hours, September 21, 2004, the directed fishery for Illex squid is closed and vessels issued Federal permits for Illex squid may not retain or land more than 10,000 lb (4.54 mt) of Illex. Such vessels may not land more than 10,000 lb (4.54 mt) of Illex during a calendar day. The directed fishery will reopen effective 0001 hours, January 1, 2005, when the 2005 quota becomes available.

Classification

This action is required by 50 CFR part 648 and is exempt from review under Executive Order 12866.

Authority: 16 U.S.C. 1801 et seq.

Dated: September 14, 2004.
Alan D. Risenhoover,
Acting Director, Office of Sustainable Fisheries, National Marine Fisheries Service.

[FR Doc. 04-21210 Filed 9-16-04; 2:03 pm]

BILLING CODE 3510-22-S